Title 3—

The President

Proclamation 9493 of September 14, 2016

National Hispanic Heritage Month, 2016

By the President of the United States of America

A Proclamation

Since our founding, our Nation has drawn strength from the diversity of our people. With faith and passion, a sturdy work ethic and profound devotion to family, Hispanics have helped carry forward our legacy as a vibrant beacon of opportunity for all. Whether their ancestors have been here for generations or they are among the newest members of our American family, they represent many countries and cultures, each adding their own distinct and dynamic perspective to our country's story. In celebration of National Hispanic Heritage Month, we honor the contributions Hispanics have made throughout our history, and we highlight an important part of the rich diversity that keeps our communities strong.

Hispanic Americans have had a lasting impact on our history and have helped drive hard-won progress for all our people. They are the writers, singers, and musicians that enrich our arts and humanities; the innovative entrepreneurs steering our economy. They are the scientists and engineers revolutionizing our ways of life and making sweeping new discoveries; the advocates leading the way for social and political change. They are the brave men and women in uniform who commit themselves to defending our most cherished ideals at home and abroad. And their lasting achievements and devotion to our Nation exemplify the tenacity and perseverance embedded in our national character.

My Administration stands firmly committed to opening doors of opportunity for all Americans and addressing issues of vital importance to the Hispanic community. The unemployment rate for the Hispanic community has dropped steadily since I took office, and we have worked to support the growth and development of Hispanic-owned businesses. Last year, Hispanic Americans saw the largest gains of any racial or ethnic group in median income and experienced among the greatest reductions in poverty. We have fought to make home ownership more affordable and to raise the Federal minimum wage—which would benefit more than 8 million Hispanic workers. Thanks to the Affordable Care Act, 4 million Hispanic non-elderly adults have gained access to quality, affordable health care, reducing the uninsured rate among Hispanics by more than a quarter. The high school graduation rate among Hispanic students is rising, and we have taken action to help more Hispanic students enroll in college. And by charting a new course in our relationship with Cuba, we are strengthening communication and bolstering relations between friends and family in both countries—reinforcing many ties to Latin America.

Our Nation's remarkable story began with immigration. Today, we must continue seeking to make the promise of our Nation real in the lives of all people, including for those who are Americans by every measure except for a piece of paper. Through the Deferred Action for Childhood Arrivals policy, hardworking young Dreamers—including many Hispanics—have been given more opportunities to reach for their highest aspirations. I remain deeply committed to passing comprehensive immigration reform, and my Administration will continue doing all that we can to carry forward our Nation's legacy as a melting pot of the world. Through the work of the White House Task Force on New Americans, we are striving to support the integration of immigrants and refugees into our communities. We will continue to welcome those fleeing persecution, including those from the Western Hemisphere, and we will keep working to make our immigration system fairer and smarter.

This month, let us reflect on the countless ways in which Hispanics have contributed to our Nation's success, and let us reaffirm our commitment to expanding opportunity and building an ever brighter future for all. Let us embrace the diversity that strengthens us and continue striving to ensure the American dream is within reach for generations of Hispanics to come.

To honor the achievements of Hispanics in America, the Congress by Public Law 100-402, as amended, has authorized and requested the President to issue annually a proclamation designating September 15 through October 15 as “National Hispanic Heritage Month.”

NOW, THEREFORE, I, BARACK OBAMA, President of the United States of America, do hereby proclaim September 15 through October 15, 2016, as National Hispanic Heritage Month. I call upon public officials, educators, librarians, and all Americans to observe this month with appropriate ceremonies, activities, and programs.

IN WITNESS WHEREOF, I have hereunto set my hand this fourteenth day of September, in the year of our Lord two thousand sixteen, and of the Independence of the United States of America the two hundred and forty-first.

[FR Doc. 2016-22578

Filed 9-16-16; 8:45 am]

Billing code 3295-F6-P